DEPARTMENT OF STATE

[Public Notice: 12294]

Notice of Public Meeting: International Information and Communications Policy Division Stakeholder Briefing

ACTION: Notice of public meeting.

SUMMARY: The State Department will hold a public meeting at 2 p.m.-3:30 p.m. (ET) on WebEx with the Bureau of Cyberspace and Digital Policy's International Information and Communications Policy (CDP/ICP) division. The purpose of the meeting is to brief stakeholders on CDP/ICP's past and upcoming international engagements. These include engagement at the International Telecommunication Union (ITU), the Organization of American States Inter-American Telecommunication Commission (CITEL), the Organization for Economic Cooperation and Development (OECD), the Asia Pacific Economic Cooperation (APEC) Forum Telecommunications and Information Working Group, the Group of Seven (G7) Digital & Tech Working Group, the Group of Twenty (G20) Digital Economy Task Force, and other multilateral processes and bilateral digital and ICT dialogues.

DATES: The meeting will be on January 18, 2024.

FOR FURTHER INFORMATION CONTACT: Please contact Daniel Oates, Global Technology Policy Advisor, CDP/ICP, at OatesDM@state.gov or 202-436-5516.

SUPPLEMENTARY INFORMATION: Additional information about the Bureau of Cyberspace and Digital Policy is accessible at https://www.state.gov/bureaus-offices/deputy-secretary-of-state/bureau-of-cyberspace-and-digital-policy/.

We encourage anyone wanting to attend this virtual meeting to register using the following link by 5:00PM Tuesday, January 16: https://statedept.webex.com/weblink/register/r5293d97462276d4d02be7fb36b04879a.

Requests for reasonable accommodation made after January 8 will be considered but might not be able to be accommodated. The public may have an opportunity to provide comments at this meeting.

Agenda

Thursday, January 18, at 2 p.m. (ET)

Opening Remarks

Briefings on CDP/ICP's past and upcoming activities

Public Comment

Adjournment

Stephan A. Lang,
Deputy Assistant Secretary, International Information and Communications Policy, Bureau of Cyberspace and Digital Policy, Department of State.

[FR Doc. 2023-28447 Filed 12-26-23; 8:45 am]

BILLING CODE 4710-10-P